DEPARTMENT OF THE INTERIOR

Fish and Wildlife Service

[FWS-R2-ES-2012-N186; FXES11130200000F5-123-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. The Act and the National Environmental Policy Act also require that we invite public comment before issuing these permits.

DATES: To ensure consideration, written comments must be received on or before October 31, 2012.

ADDRESSES: Marty Tuegel, Section 10 Coordinator, by U.S. mail at Division of Endangered Species, U.S. Fish and Wildlife Service, P.O. Box 1306, Room 6034, Albuquerque, NM at (505) 248-6651. Please refer to the respective permit number for each application when submitting comments.

FOR FURTHER INFORMATION CONTACT: Susan Jacobsen, Chief, Endangered Species Division, P.O. Box 1306, Albuquerque, NM 87103; (505) 248-6641.

SUPPLEMENTARY INFORMATION:

Public Availability of Comments

The Act (16 U.S.C. 1531 et seq.) prohibits activities with endangered and threatened species unless a Federal permit allows such activities. Along with our implementing regulations in the Code of Federal Regulations (CFR) at 50 CFR 17, the Act provides for permits, and requires that we invite public comment before issuing these permits. A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies, and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-039571

Applicant: Bureau of Land Management, Yuma, Arizona.

Applicant requests an amendment to a current permit for research and recovery purposes to conduct presence/absence surveys for southwestern willow flycatcher (Empidonax traillii extimus) within Arizona.

Permit TE-78959A

Applicant: Sarah Weber, Spring Branch, Texas.

Applicant requests a new permit for research and recovery purposes to conduct presence/absence surveys of golden-cheeked warbler (Dendroica chrysoparia) within Texas.

Permit TE-78960A

Applicant: Federal Emergency Response Agency, Denton, Texas.

Applicant requests a new permit for research and recovery purposes to conduct presence/absence surveys of, to temporarily hold and handle, and to salvage Houston toads (Bufo houstonensis) within Texas.

Permit TE-07059A

Applicant: Paul Marsh, Chandler, Arizona.

Applicant requests an amendment to a current permit for research and recovery purposes to conduct presence/absences surveys of loach minnow (Tiaroga cobitis) and spikedace (Mega fulgida) within Arizona.

Permit TE-80954A

Applicant: Thomas Crane, American Livebearer Association, Ridgewood, New Jersey.

Applicant requests a new permit for research and recovery purposes to breed and capitvely hold Big Bend gambusia (Gambusia gaigei), Gila topminnow (Poeciliopsis occidentalis occidentalis), and Pecos gambusia (Gambusia nobilis) obtained from The Dexter National Fish Hatchery and Technology Center, New Mexico, in American Livebearer Facilities across the United States.

Permit TE-014168

Applicant: Peter Sprouse, Manchaca, Texas.

Applicant requests a renewal to a current permit for research and recovery purposes to conduct presence/absence surveys of the following species within Texas:

• Barton Springs salamander (Eurycea sosorum)

• Bee Creek Cave harvestman (Texella reddelli)

• Bone Cave harvestman (Texella reyesi)

• Braken Bat Cave meshweaver (Cicurina venii)

• Coffin Cave mold beetle (Batrisodes texanus)

• Cokendolpher Cave harvestman (Texella cokendolpheri)

• Comal Springs dryopid beetle (Stygoparnus comalensis)

• Comal Springs riffle beetle (Heterelmis comalensis)

• Government Canyon Bat Cave meshweaver (Cicurina vespera)

• Government Canyon Bat Cave spider (Neoleptoneta microps)

• Ground beetle (Rhadine exilis)

• Ground beetle (Rhadine infernalis)

• Helotes mold beetle (Batrisodes venyivi)

• Kretschmarr Cave mold beetle (Texamaurops reddelli)

• Madla Cave meshweaver (Cicurina madla)

• Peck's Cave amphipod (Stygobromus pecki)

• Robber Baron Cave meshweaver (Cicurina baronia)

• San Marcos salamander (Eurycea nana)

• Texas blind salamander (Typhlomolge rathbuni)

• Tooth Cave ground beetle (Rhadine persephone)

• Tooth Cave pseudoscorpion (Tartarocreagris texana)

• Tooth Cave spider (Neoleptoneta (=Leptoneta) myopica)

Permit TE-208531

Applicant: Sarah Zappitello, Manchaca, Texas.

Applicant requests a renewal to a current permit for research and recovery purposes to conduct presence/absence surveys of the following species within Texas:

• Bee Creek Cave harvestman (Texella reddelli)

• Bone Cave harvestman (Texella reyesi)

• Braken Bat Cave meshweaver (Cicurina venii)

• Coffin Cave mold beetle (Batrisodes texanus)

• Cokendolpher Cave harvestman (Texella cokendolpheri)

• Comal Springs dryopid beetle (Stygoparnus comalensis)

• Comal Springs riffle beetle (Heterelmis comalensis)

• Government Canyon Bat Cave meshweaver (Cicurina vespera)

• Government Canyon Bat Cave spider (Neoleptoneta microps)

• Ground beetle (Rhadine exilis)

• Ground beetle (Rhadine infernalis)

• Helotes mold beetle (Batrisodes venyivi)

• Kretschmarr Cave mold beetle (Texamaurops reddelli)

• Madla Cave meshweaver (Cicurina madla)

• Peck's Cave amphipod (Stygobromus pecki)

• Robber Baron Cave meshweaver (Cicurina baronia)

• San Marcos salamander (Eurycea nana)

• Texas blind salamander (Typhlomolge rathbuni)

• Tooth Cave ground beetle (Rhadine persephone)

• Tooth Cave pseudoscorpion (Tartarocreagris texana)

• Tooth Cave spider (Neoleptoneta (=Leptoneta) myopica)

Permit TE-217655

Applicant: Rachel Barlow, Manchaca, Texas.

Applicant requests a renewal to a current permit for research and recovery purposes to conduct presence/absence surveys of the following species within Texas:

• Bee Creek Cave harvestman (Texella reddelli)

• Black-capped vireo (Vireo atricapilla)

• Bone Cave harvestman (Texella reyesi)

• Braken Bat Cave meshweaver (Cicurina venii)

• Coffin Cave mold beetle (Batrisodes texanus)

• Cokendolpher Cave harvestman (Texella cokendolpheri)

• Golden-cheeked warbler (Dendroica chrysoparia)

• Government Canyon Bat Cave meshweaver (Cicurina vespera)

• Government Canyon Bat Cave spider (Neoleptoneta microps)

• Ground beetle (Rhadine exilis)

• Ground beetle (Rhadine infernalis)

• Helotes mold beetle (Batrisodes venyivi)

• Kretschmarr Cave mold beetle (Texamaurops reddelli)

• Madla Cave meshweaver (Cicurina madla)

• Robber Baron Cave meshweaver (Cicurina baronia)

• Tooth Cave ground beetle (Rhadine persephone)

• Tooth Cave pseudoscorpion (Tartarocreagris texana)

• Tooth Cave spider (Neoleptoneta (=Leptoneta) myopica)

Permit TE-83598A

Applicant: Bureau of Reclamation, Oklahoma-Texas Area Office, Oklahoma City, Oklahoma.

Applicant requests a new permit for research and recovery purposes to conduct presence/absence surveys of American burying beetle (Nicrophorus americanus) within Oklahoma.

Permit TE-078127

Applicant: Dallas World Aquarium, Dallas, Texas.

Applicant requests a new permit for husbandry and holding of Kemp's ridley (Lepidochelys kempii), leather back (Dermochelys coriacea), and hawksbill (Eretmochelys imbricata) sea turtles within the Dallas World Aquarium, Dallas, Texas.

Permit TE-155413

Applicant: Murray Itzkowitz, Bethlehem, Pennsylvania.

Applicant requests a new permit for research and recovery purposes to conduct presence/absence surveys of, net, fin clip for genetic analysis, and expand breeding habitat by removing bulrush and preventing regrowth using submerged cement tile for Leon Springs pupfish (Cyprinodon bovines) and Pecos gambusia (Gambusia nobilis) within Texas.

Permit TE-069320

Applicant: KBA Enviroscience, Ltd., Lewisville, Texas.

Applicant requests an amendment to a current permit for research and recovery purposes to conduct presence/absence surveys of American burying beetle (Nicrophorus americanus) in Kansas, Nebraska, and South Dakota; interior least tern (Sterna antillarum) and red-cockaded woodpecker (Picoides borealis) within Oklahoma, Arkansas, and Louisiana; and piping plover (Charadrius melodus) within Oklahoma and Louisiana.

Permit TE-828830

Applicant: Bureau of Land Management, Tucson, Arizona.

Applicant requests a new permit for research and recovery purposes to conduct presence/absence surveys of the following species within Arizona:

• Desert pupfish (Cyprinodon macularius)

• Gila chub (Gila intermedia)

• Gila topminnow (Poeciliopsis occidentalis)

• Lesser long-nosed bat (Leptonycteris curasoae yerbabuenae)

• Loach minnow (Tiaroga cobitis)

• Southwestern willow flycatcher (Empidonax traillii extimus)

• Spikedace (Meda fulgida)

Permit TE-83692A

Applicant: Sphere 3 Environmental, Inc., Longview, Texas.

Applicant requests a new permit for research and recovery purposes to conduct presence/absence surveys of red-cockaded woodpecker (Picoides borealis) within Texas.

Permit TE-83693A

Applicant: Oklahoma Biological Survey, Norman, Oklahoma.

Applicant requests a new permit for research and recovery purposes to conduct presence/absence surveys and collect stems, seeds, and voucher specimens of haperella (Ptilimnium nodosum) within Oklahoma.

Permit TE-051832

Applicant: Phoenix Zoo, Phoenix, Arizona.

Applicant requests an amendment to a current permit for research and recovery purposes to conduct animal husbandry and captive management of California condors (Gymnogyps californianus) within the Phoenix Zoo, Arizona.

Permit TE-012642

Applicant: Blue Earth Ecological Consultants, Santa Fe, New Mexico.

Applicant requests an amendment to a current permit for research and recovery purposes to conduct presence/absence surveys of loach minnow (Tiaroga cobitis) within New Mexico and Arizona.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.).

Dated: September 24, 2012.
Benjamin N Tuggle,
Regional Director, Southwest Region.

[FR Doc. 2012-24116 Filed 9-28-12; 8:45 am]

BILLING CODE 4310-55-P